DEPARTMENT OF COMMERCE

Bureau of the Census

[Docket No. 001115321-0321-01]

Revisions to Shipper's Export Declaration, Commerce Form 7525-V

AGENCY: Bureau of the Census, Commerce.

ACTION: Program notice.

SUMMARY: This notice announces that on September 28, 2000, the Office of Management and Budget (OMB) approved use of the revised Shipper's Export Declaration (SED), Commerce Form 7525-V, and the Automated Export System (AES) for export reporting purposes. Under the OMB clearance, the Commerce Form 7525-V-Alternate (Intermodal) is eliminated as a shipper's export reporting form, and the sponsorship of the Commerce Form 7513, “Shipper's Export Declaration for In-Transit Goods,” is transferred to the U.S. Army Corps of Engineers. The effective date for use of the new form is October 1, 2000. However the Census Bureau is allowing a 180 day grace period to April 1, 2001, to allow the trade community to deplete current stocks of the old forms. During the grace period, the Census Bureau will allow use of both the old and revised Commerce Form 7525-V and Commerce Form 7525-V-Alternate (Intermodal). As of April 1, 2001, only the Commerce Form 7525-V and the AES record will be accepted by the Census Bureau and the Customs Service as a means of reporting shipper's export declaration information.

DATES: The effective date for use of the revised SED form is October 1, 2000.

FOR FURTHER INFORMATION CONTACT: Requests for additional information or instructions for completion of the new form should be addressed to Jerome Greenwell, Foreign Trade Division, U.S. Census Bureau, Room 3125, FOB-3, Washington, DC 20233-0001, (301) 457-2238.

SUPPLEMENTARY INFORMATION: The Shipper's Export Declaration (SED) Commerce Form 7525-V and the Automated Export System (AES) reporting methods were approved under OMB clearance number 0607-0152. The SED is a Department of Commerce Form used by the Bureau of the Census (Census Bureau) for statistical reporting purposes and the Bureau of Export Administration (BXA) for export control purposes. It also is used by the U.S. Customs Service for verifying export shipments, the Department of State, and other federal government agencies for export control purposes. The SED was revised to delete unused or outdated data fields, to make it consistent with the regulation provisions contained in the final rule published in the Federal Register on July 10, 2000 (65 FR 42556), and to make the data elements on the paper SED consistent with the data elements on the AES record.

The OMB clearance for the SED, Commerce Form 7525-V, and Commerce Form 7525-V-Alternate (Intermodal), the Automated Export Reporting Program (AERP), the AES, and Commerce Form 7513, “Shipper's Export Declaration for In-Transit Goods” expired on September 30, 2000. On April 28, 2000, the Census Bureau published a presubmission notice in the Federal Register (65 FR 24912) announcing its intent to submit a forms clearance proposal to OMB to renew its clearance for the reporting of export data using: (1) the two types of paper SEDs, Form 7525-V, and Form 7525-V-Alternate (Intermodal); and (2) the AES.

In that notice the Census Bureau also announced that it was not renewing clearance for the AERP and the Commerce Form 7513, “Shipper's Export Declaration for In-Transit Goods.” With the rapid growth of the AES, the Census Bureau discontinued the AERP program as of December 31, 1999. Filers using the AERP program, which was an electronic reporting system that was strictly used for Census Bureau statistical collection purposes, are now filing their export data through the AES or are in the process of converting to the AES.

The authority for clearance of the “Shipper's Export Declaration for In-Transit Goods,” Commerce Form 7513, which serves as the source document from which the official U.S. statistics on outbound in-transit waterborne shipments is collected and compiled, has been transferred to the U.S. Army Corps of Engineers. This program was transferred to the Corps, as they are the primary users of the in-transit data.

In that notice the Census Bureau also identified the revisions that were being made to the SED to bring it up to date with current regulatory and policy provisions and to make it consistent with the AES record format.

On August 21, 2000, the Census Bureau published a second notice in the Federal Register (65 FR 50674) announcing its submission of the Forms Clearance proposal to OMB requesting clearance only for the Commerce Form 7525-V, “Shipper's Export Declaration,” and the AES. Subsequent to issuing the April 28, 2000, Federal Register notice, the Census Bureau determined that making the changes required to make the paper SEDs compatible with the AES record format would make the Form 7525-V-Alternate (Intermodal) incompatible with the ocean bill of lading, with which it was intended to align, thereby negating its utility to the vessel exporting community. Therefore, the Census Bureau did not request clearance for the Form 7525-V-Alternate (Intermodal). There was no objection to the elimination of the Form 7525-V-Alternate (Intermodal) as provided in comments to the August 21 Federal Register notice.

Program Change

Effective October 1, 2000, the only methods by which filers can report export information to the Census Bureau is by using the paper SED, Commerce Form 7525-V, or filing the export information electronically through the AES. In order to allow filers to deplete existing stocks of the old paper SED forms, the Census Bureau is allowing a 180-day grace period to April 1, 2001, during which time filers will be allowed to use either the revised SED or the old versions of the Form 7525-V or Form 7525-V-Alternate (Intermodal).

However, when using either the old or new version of the SED, filers must follow the provisions contained in the revised Foreign Trade Statistics Regulations (FTSR), published as a final rule in the Federal Register on July 10, 2000 (65 FR 42556). These regulations contain revised provisions for reporting the name of the U.S. principal party in interest (USPPI) on the SED or AES record, specifically clarify the reporting responsibilities of the USPPI and forwarding or other agents involved in the export transaction, and clarify the power of attorney provisions whenever a principal party interest authorizes a U.S. forwarding or other agent to act on its behalf to facilitate the export of items from the United States.

The revised SED is available for downloading on the Census Bureau's Foreign Trade Division (FTD) Web site at www.census.gov/foreign-trade/www. The SED can be prepared and downloaded from this website or it can be downloaded from the Web site on yellow or goldenrod paper and privately printed, or it can be ordered from the Government Printing Office by calling the Publication Order and Information Office at (202) 512-1800. The FTD also will provide a software package, free of charge, that will allow respondents to input SED information on their own computer and transmit it electronically through AESDirect. The FTD will inform the public through its FTD Web site and the AES newsletter as to when this software will be available. A copy of the revised SED also is published as part of this notice.

The Census Bureau strongly encourages all filers of export data to report their export information electronically using the AES. The Census Bureau offers a free Internet-based filing service on its Web site through which filers can transmit export information. This system is known as AESDirect, and detailed information on using this system can be obtained from the Census Bureau, FTD Web site at www.aesdirect.gov. General information about the AES and AESDirect can be obtained from the Census Bureau's FTD Web site at www.census.gov/foreign-trade/www and on the U.S. Customs Service Web site at www.customs.gov.aes.

The new instructions for completing the SED, “The Correct Way To Complete The SED,” are also available for downloading on the FTD Web site at www.census.gov/foreign-trade/www. These instructions include detailed data element descriptions for completing the revised SED. These data element descriptions should be used as a general reference for completing the SED. All filers are strongly encouraged to reference the detailed provisions for completing the SED and AES records contained in the FTSR, title 15, Code of Federal Regulations, part 30. Filers should be familiar with these regulations prior to completing the SED or AES record.

Dated: November 27, 2000.
Kenneth Prewitt,
Director, Bureau of the Census.

BILLING CODE 3510-07-P

[FR Doc. 00-30695 Filed 12-1-00; 8:45 am]

BILLING CODE 3510-07-C